DEPARTMENT OF COMMERCE

National Oceanic and Atmospheric Administration

[I.D. 011405C]

Marine Mammals; File No. 881-1710

AGENCY: National Marine Fisheries Service (NMFS), National Oceanic and Atmospheric Administration (NOAA), Commerce.

ACTION: Issuance of permit amendment.

SUMMARY: Notice is hereby given that Alaska SeaLife Center (ASLC), 301 Railway Avenue, Seward, AK 99664, (Shannon Atkinson, Ph.D., Principal Investigator) has been issued an amendment to Permit No. 881-1710-02 to conduct research on harbor seals (Phoca vitulina).

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Tammy Adams, (301)713-2289.

SUPPLEMENTARY INFORMATION: On July 15, 2004, notice was published in the Federal Register (69 FR 42424) that a request for a permit amendment to conduct research on the species identified above had been submitted by the above-named organization. The requested permit has been issued under the authority of the Marine Mammal Protection Act of 1972, as amended (16 U.S.C. 1361 et seq.), and the Regulations Governing the Taking and Importing of Marine Mammals (50 CFR part 216).

This permit amendment authorizes a study to assess protein turnover rates in eight harbor seals authorized to be held at the ASLC. The study involves the administration of the stable isotope ¹⁵[N] glycine, a non-essential amino acid involved in protein synthesis, to assess protein turnover in the seals through analysis of blood samples. Sodium bromide (NaBr) would also be administered and post dosage blood samples would occur concurrently for the substances. NaBr is a nonradioactive substance and is used to measure the extracellular phase of body water. This study will be part of a long term study to investigate the effects of high and low lipid diets on the growth, development, maturity, and health of harbor seals in captivity. This amendment is authorized until the expiration of permit, November 30, 2008.

Dated: January 14, 2005.
Amy C. Sloan,
Acting Chief, Permits, Conservation and Education Division, Office of Protected Resources, National Marine Fisheries Service.

[FR Doc. 05-1235 Filed 1-21-05; 8:45 am]

BILLING CODE 3510-22-S